DEPARTMENT OF TRANSPORTATION

Coast Guard

33 CFR Part 165

[CGD 11-01-013]

RIN-2115-AE84

Regulated Navigation Area; San Francisco Bay, California

AGENCY: Coast Guard, DOT.

ACTION: Interim rule with request for comments.

SUMMARY: The Coast Guard is changing the boundary for the portion of the Oakland Harbor Regulated Navigation Area (RNA) that lies just due north of Anchorage 8. By a separate rulemaking, the Coast Guard is increasing the size of Anchorage 8. To avoid having Anchorage 8 encroach on the Oakland Harbor RNA, this interim rule simply designates new boundary lines for the Oakland Harbor RNA to coincide with the new Anchorage 8 boundaries. This rule also corrects the coordinates for the northern boundary of the Oakland Harbor RNA that is inaccurately listed in the current RNA regulation.

DATES: This interim rule is effective July 24, 2001. Comments must be received on or before August 23, 2001.

ADDRESSES: Comments may be mailed or hand-delivered to: Commander (pmc-3), Eleventh Coast Guard District, Bldg. 50-6, Coast Guard Island, Alameda, CA 94501-5100. The Commander (pmc-3), Eleventh Coast Guard District maintains the public docket for this rulemaking.

FOR FURTHER INFORMATION CONTACT: LT Patricia Springer, Chief of Vessel Traffic Management, Eleventh Coast Guard District, Building 50-6, Coast Guard Island, Alameda, CA 94501-5100, phone (510) 437-2951, e-mail pspringer@d11.uscg.mil.

SUPPLEMENTARY INFORMATION:

Request for Comments

Although this regulation is published as an interim rule without prior notice, an opportunity for public comment is nevertheless desirable to ensure the regulation is both reasonable and workable.

The Coast Guard encourages all interested persons to participate in this interim rulemaking by submitting written data, views, or arguments. Persons submitting comments should identify this rulemaking (CGD 11-01-013), the specific section of the rule to which each comment applies, and the reason for each comment. All comments and attachments must be submitted in an unbound format, no larger than 8½ × 11 inches, suitable for copying. Persons wanting acknowledgment of receipt of comments should enclose a stamped, self-addressed postcard or envelope. All comments and other materials referenced in this notice will be available for inspection and copying at the Coast Guard location under ADDRESSES, between 6:30 a.m. and 4 p.m. Monday through Friday except Federal holidays. The Coast Guard will consider all comments and material received during the comment period and may change this rule in view of them.

Public Meeting

The Coast Guard plans no public hearing. Interested persons may request a public hearing by writing to the Coast Guard at the address under ADDRESSES. The request should include the reasons why a hearing would be beneficial. If it determines that the opportunity for oral presentations will aid in this rulemaking, the Coast Guard will hold a public hearing at a time and place to be announced by a later notice in the Federal Register.

Regulatory Information

The Coast Guard did not publish a notice of proposed rulemaking (NPRM) for this regulation, however the Coast Guard did publish an NPRM and a Final Rule regarding Anchorage 8 on February 28, 2001 (66 FR 12742) and June 26, 2001 (66 FR 33833), respectively, both of which have an effect on the Oakland Harbor RNA. The newly expanded Anchorage 8 inadvertently overlapped the boundary line for the Oakland Harbor RNA.

The Coast Guard believes that decreasing the size of the RNA to compensate for the increase in the size of Anchorage 8 will not affect any significant operation in the vicinity of the Oakland Harbor. The correction to the northern boundary of the Oakland Harbor RNA will simply align the coordinates in the RNA regulation with what has already been accurately charted by the National Oceanic and Atmospheric Administration (NOAA) on their 50th edition of chart 18650, dated January of 2001. Both of these changes are required immediately in order to prevent confusion among the public and to maintain the highest levels of safety within the RNA and Anchorage 8. Publishing an NPRM in this istuation is impracticable and contrary to the public interest. Therefore, under 5 U.S.C. 553(b)(3)(B), the Coast Guard finds that good cause exists for not publishing an NPRM for this Interim Final Rule.

Under 5 U.S.C. 553(d)(3), the Coast Guard also finds that good cause exists for making this rule effective less than 30 days after publication in the Federal Register. The new Anchorage 8 boundary becomes effective as of July 26, 2001. In order to enforce properly the anchorage regulations along with the RNA regulations, and to avoid public confusion and unsafe conditions in the waterway, these rules need to coincide, as closely as possible, in their effective dates.

Background and Purpose

As discussed in the Regulatory Information section, there have been both an NPRM and a Final Rule published in the Federal Register on the changes of Anchorage 8, which in turn requires a change to the Oakland Harbor RNA. Over time, demands of waterway usage in the San Francisco Bay have led to the need for increases in anchorage grounds. Anchorage 8 was one of the anchorages recently requested by the mariners to be modified to make better use of available water. Such a change has resulted in Anchorage 8 area protruding into the nearby Oakland Harbor RNA, necessitating an adjustment to the boundary designation of the RNA. No comments were received on the Anchorage 8 regulation change that objected on the grounds that the Oakland Harbor RNA would need to be reduced. Additionally, the reduction in the RNA will not result in any adverse effect to waterway users.

The northern boundary coordinates in the regulation for the Oakland Harbor RNA was recently discovered to be off by approximately 30 to 200 yards. This rulemaking will correct the points listed in the RNA regulation, accurately reflecting the alignment of the northern boundary of the Oakland Harbor RNA with the Bar Channel and what has already been charted by NOAA.

Discussion of Interim Rule

This Interim Rule incorporates an administrative change to correct the boundary line of the affected Oakland Harbor RNA to coincide with the new boundaries of Anchorage 8. While Anchorage 8 will increase in size by approximately 2,300 square feet to the northwest, the Oakland Harbor RNA lying just north of this anchorage will decrease in size by the same amount. The regulations that apply to vessels within this RNA will still remain the same.

This Interim Rule also incorporates an administrative change to correct the mis-printed coordinates in the current RNA regulation for the northern boundary of the Oakland Harbor RNA. The corrected coordinates will reflect what has already been charted by NOAA.

Regulatory Evaluation

This rule is not a “significant regulatory action” under section 3(f) of Executive Order 12866 and does not require an assessment of potential costs and benefits under section 6(a)(3) of that order. It has been exempted from review by the Office of Management and Budget under that order. It is not “significant” under the Department of Transportation Regulatory Policies and Procedures (DOT) (44 FR 11040, February 26, 1979). The Coast Guard expects the impact of this rule to be so minimal that a full Regulatory Evaluation under paragraph 10(e) of the regulatory policies and procedures of DOT is unnecessary. This rule is merely re-designating the boundary lines of the Oakland Harbor RNA to coincide with the recently published Anchorage 8 boundary change and to correct a mistake on the northern boundary coordinates of the RNA.

Small Entities

Under the Regulatory Flexibility Act (5 U.S.C. 601 et seq.), the Coast Guard must consider whether this rule will have a significant economic impact on a substantial number of small entities. The term “small entities” may include small businesses and not-for profit organizations that are independently owned and operated and are not dominant in their respective fields, and governmental jurisdictions with populations less than 50,000. This rule does not require a general notice of proposed rulemaking and, therefore, is exempt from the requirements of the Regulatory Flexibility Act. Although this rule is exempt, we have reviewed it for potential economic impact on small entities. Therefore, the Coast Guard certifies under 5 U.S.C. 605(b) that this rule, if adopted, is not expected to have a significant economic impact on any substantial number of small entities. If you think that your business, organization, or governmental jurisdiction qualifies as a small entity and that this rule will have a significant impact on it, please submit a comment. In your comment, explain why you think it qualifies and how and to what degree this rule would economically affect it.

Assistance for Small Entities

In accordance with 213(a) of the Small Business Regulatory Enforcement Fairness Act of 1996 (Pub. L. 104-121), the Coast Guard wants to assist small entities in understanding this Interim Rule so that they can better evaluate its effects on them and participate in the rule making process. If your small business or organization is affected by this rule and you have questions concerning its provisions or options for compliance, please contact the U.S. Coast Guard using information in Addresses above.

Collection of Information

This rule contains no collection of information requirements under the Paperwork Reduction Act of 1995 (44 U.S.C. 3501-3520).

Federalism

The Coast Guard has analyzed this rule in accordance with the principles and criteria contained in Executive Order 13132 and has determined it does not have implications of federalism under that order.

Unfunded Mandates

The Unfunded Mandates Reform Act of 1995 (2 U.S.C. 1531-1538), requires Federal agencies to assess the effects of their regulatory actions not specifically required by law. In particular, the Act addresses actions that may result in the expenditure by a State, local, or tribal government, in aggregate, or by the private sector of $100,000,000 or more in any one year. Though this rule will not result in such expenditure, the effects of this rule are discussed elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard has considered the environmental impact of this rule and concluded that under Commandant Instruction M16475.1C, Figure 2-1, paragraph 34(g), reducing the size of an RNA is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Waterways.

For the reasons set out in the preamble, the Coast Guard amends Part 165 of Title 33, Code of Federal Regulations, as follows:

PART 165—REGULATED NAVIGATION AREAS AND LIMITED ACCESS AREAS

1. The authority citation for Part 165 continues to read as follows:

Authority: 33 U.S.C. 1231; 50 U.S.C. 191, 33 CFR 1.05-1(g), 6.04-1, 6.04-6 and 160.5; 49 CFR 1.46.

2. Amend § 165.1114 by revising paragraph (c)(7) to read as follows:

§ 165.1114 San Francisco Bay Region, California—regulated navigation area.

* * * * *

(7) Oakland Harbor RNA. The following is a regulated navigation area—The waters bounded by a line connecting the following coordinates, beginning at:

37° 48′ 40″ N, 122° 19′ 58″ W; thence to

37° 48′ 50″ N, 122° 20′ 02″ W; thence to

37° 48′ 29″ N, 122° 20′ 39″ W; thence to

37° 48′ 13″ N, 122° 21′ 26″ W; thence to

37° 48′ 10″ N, 122° 21′ 39″ W; thence to

37° 48′ 20″ N, 122° 22′ 12″ W; thence to

37° 47′ 36″ N, 122° 21′ 50″ W; thence to

37° 47′ 52″ N, 122° 21′ 40″ W; thence to

37° 48′ 03″ N, 122° 21′ 00″ W; thence to

37° 47′ 48″ N, 122° 19′ 46″ W; thence to

37° 47′ 55″ N, 122° 19′ 43″ W; thence returning along the shoreline to the point of the beginning.

Datum: NAD 83

* * * * *

Dated: July 16, 2001.
E.R. Riutta,
Vice Admiral, U.S. Coast Guard, Commander, Eleventh Coast Guard District.

[FR Doc. 01-18395 Filed 7-23-01; 8:45 am]

BILLING CODE 4910-15-U